DEPARTMENT OF TRANSPORTATION

Office of the Secretary

[Docket No. DOT-OST-2010-0102]

Request for Renewal of a Previously Approved Information Collection

ACTION: Notice and request for approval.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on April 30, 2010 (FR 75, page 22890). No comments were received.

DATES: Comments must be submitted on or before August 20, 2010.

FOR FURTHER INFORMATION CONTACT: Gregory Frazier, Office of the Resource Directorate, Office of the Secretary, U.S. Department of Transportation, 1200 New Jersey Ave., SE., Washington, DC 20590, (202) 366-0473.

SUPPLEMENTARY INFORMATION: Title: Air Carrier's Claim for Subsidy.

OMB Control Number: 2106-0044.

Type of Request: Renewal of a currently approved information collection.

Abstract: In accordance with 14 CFR 271 of its Aviation Economic Regulations, the Department provides subsidy to air carriers for providing essential air service in small rural communities. Funding is paid to air carriers monthly and those payments will vary according to the actual amount of service performed during the month. The report of subsidized air carriers of essential air service performed on the Department's Form 398 “Air Carrier's Claim for Subsidy,” establishes the fundamental basis for paying these air carriers on a timely basis. Typically, subsidized air carriers are small businesses and operate only aircraft of limited size over a limited geographical area. The collection permits subsidized air carriers to submit their monthly claims in a concise, orderly, easy-to process form, without having to devise their own means of submitting support for these claims.

Affected Public: Small air carriers selected by the Department in docketed cases to provide subsidized essential air service.

Estimated Number of Respondents: 24.

Estimated Number of Responses: 1,560.

Annual Estimated Total Annual Burden Hours: 5,413.

Frequency of Collection: Monthly.

ADDRESSES: Send comments regarding the burden estimate, including suggestions for reducing the burden, to the Office of Management and Budget, Attention: Desk Officer for the Office of the Secretary of Transportation, 725 17th Street, NW., Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Issued in Washington, DC on July 14, 2010.
John DiLuccio,
Director, Resource Directorate.

[FR Doc. 2010-17764 Filed 7-20-10; 8:45 am]

BILLING CODE 4910-62-P